DEPARTMENT OF TRANSPORTATION

Federal Aviation Administration

[Docket No. 2022-1202]

Agency Information Collection Activities: Requests for Comments; Clearance of a Renewed Approval of Information Collection: Reduction of Fuel Tank Flammability on Transport Category Airplanes

AGENCY: Federal Aviation Administration (FAA), DOT.

ACTION: Notice and request for comments.

SUMMARY: In accordance with the Paperwork Reduction Act of 1995, FAA invites public comments about our intention to request the Office of Management and Budget (OMB) approval to renew an information collection. The Federal Register Notice with a 60-day comment period soliciting comments on the following collection of information was published on September 29, 2022. The FAA's Fuel Tank Flammability Safety rule requires manufacturers to report to the FAA every 6 months on the reliability of the fuel tank flammability reduction systems of their fleet. The data is needed to assure system performance meets that predicted at the time of certification. This collection of information supports the Department of Transportation's strategic goal of safety.

DATES: Written comments should be submitted April 10, 2023.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Philip Dang by email at: Philip.M.Dang@faa.gov by phone: 206-231-3442.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information.

OMB Control Number: 2120-0710.

Title: Reduction of Fuel Tank Flammability on Transport Category Airplanes.

Form Numbers: There are no FAA forms associated with this collection.

Type of Review: Renewal of an information collection.

Background: The Federal Register Notice with a 60-day comment period soliciting comments on the following collection of information was published on Sept 29, 2022 (87 FR 59160). Design approval holders use flammability analysis documentation to demonstrate to their FAA Oversight Office that they are compliant with the Fuel Tank Flammability Safety rule (73 FR 42443). Semi-annual reports submitted by design approval holders provide listings of component failures discovered during scheduled or unscheduled maintenance so that the reliability of the flammability reduction means can be verified by the FAA.

Respondents: Approximately four design approval holders.

Frequency: Every three years.

Estimated Average Burden per Response: 100 hours.

Estimated Total Annual Burden: 800 hours.

Issued in Kansas, Missouri, on March 06, 2023.
Patrick R. Mullen,
Technical Innovations Policy Branch Manager, Policy and Innovation, Aircraft Certification Service.

[FR Doc. 2023-04886 Filed 3-9-23; 8:45 am]

BILLING CODE 4910-13-P